DEPARTMENT OF VETERANS AFFAIRS

Chiropractic Advisory Committee; Notice of Meeting

The Department of Veterans Affairs (VA) gives notice under Public Law 92-463 (Federal Advisory Committee Act) that the Chiropractic Advisory Committee will meet Tuesday, July 13, 2004, from 8:15 a.m. until 5 p.m. and Wednesday, July 14, 2004 from 8 a.m. until 4 p.m. at 811 Vermont Avenue NW, Room 819, Washington, DC 20420. The meeting is open to the public.

The purpose of the Committee is to provide direct assistance and advice to the Secretary of Veterans Affairs in the development and implementation of the chiropractic health program. Matters on which the Committee shall assist and advise the Secretary include protocols governing referrals to chiropractors and direct access to chiropractic care, scope of practice of chiropractic practitioners, definitions of services to be provided and such other matters as the Secretary determines to be appropriate.

On July 13, the Committee will receive an update on the status of recommendations to the Secretary, an update on the status of program implementation, and begin development of recommendations for program evaluation. On July 14, the Committee will receive a briefing on academic affiliations, continue discussion of recommendations for program evaluation if additional time is needed, and begin discussion of the Committee's final report.

Any member of the public wishing to attend the meeting is requested to contact Ms. Sara McVicker, RN, MN, Designated Federal Officer, at (202) 273-8559 no later than 5:00 p.m. Eastern time on Thursday, July 8, 2004 in order to facilitate entry to the building.

Oral comments from the public will not be accepted at the meeting. It is preferred that any comments be transmitted electronically to sara.mcvicker@mail.va.gov or mailed to: Chiropractic Advisory Committee, Medical Surgical Services SHG (111), U.S. Department of Veterans Affairs, 810 Vermont Avenue NW, Washington, DC 20420.

Dated: June 14, 2004.
By Direction of the Secretary.
E. Philip Riggin,
Committee Management Officer.

[FR Doc. 04-13998 Filed 6-21-04; 8:45 am]

BILLING CODE 8320-01-M